DEPARTMENT OF HEALTH AND HUMAN SERVICES

Administration for Children and Families

Notice for Public Comment on Administration for Native Americans' Survey To Measure Native American Language Vitality

AGENCY: Administration for Native Americans, Administration for Children and Families, U.S. Department of Health and Human Services.

ACTION: Request for public comments.

SUMMARY: As part of the Durbin Feeling Native American Languages Act of 2022 (Durbin Feeling Act), the Administration for Native Americans (ANA) is tasked with developing a nationwide survey on Native languages, with the intent that the survey will be sent out and collected every 5 years. The survey will gather information from Tribal Governments and/or Native language community organization representatives to report about the language use, language learning, and unmet needs in the community. The law requires that the survey makers consult with Native American Tribes, traditional leaders, and representatives of Native American language communities, including Native Hawaiian and Pacific Island communities. The data collection will provide Tribal Nations, Native American language communities, and Congress with critical information about how Federal support can best help to revitalize and maintain Native languages. For more information on the Durbin Feeling Act, please visit: https://www.acf.hhs.gov/ana/durbin-feeling.

DATES: Comments are due by April 8, 2024 to ensure consideration during the survey revision process.

ADDRESSES: Comments may be submitted to Amy Zukowski, Director of Program Evaluation and Planning, Administration for Native Americans, 330 C Street SW, Washington, DC 20201 or via email to ANACommissioner@acf.hhs.gov. Please use “Native Language Survey Comments” in the subject line.

FOR FURTHER INFORMATION CONTACT: Amy Zukowski, Director, Program Evaluation and Planning, Administration for Native Americans, 330 C Street, SW, Washington, DC 20201; Telephone: (877) 922-9262; Email: ANACommissioner@acf.hhs.gov.

SUPPLEMENTARY INFORMATION:

A. Background

On January 5, 2023, the Durbin Feeling Native American Languages Act became law (Pub. L. 117-337). The purpose of this legislation is to improve interagency efforts to support Native American language reclamation efforts; reduce duplication, inefficiencies, and barriers Native American language communities face in accessing Federal programs to support efforts to revitalize, maintain, or increase the use of Native American languages; and outline the status of the vitality of Native American languages.

The law requires implementation of these actions in consultation with Indian Tribes, traditional leaders, and representatives of Native American language communities, including Native Hawaiian and Pacific Island communities.

This legislation charges ANA to lead the development and implementation of a nationwide survey on Native American languages every 5 years. ANA is working with other Federal agencies and conducting consultations with Tribes, including their speakers and language experts, in the development of this survey.

Congress outlined six topic areas that must be included in the survey:

1. Information on which Native languages are currently spoken

2. Estimates on the number of speakers of each Native language

3. Any relevant language usage statistics or information

4. Information on types of Native language projects and practices

5. Information on any unmet resources for Native languages

6. Any other necessary information

The Paperwork Reduction Act (PRA), 44 U.S.C. 3501 et seq., provides that a Federal agency generally cannot conduct or sponsor a collection of information, and the public is generally not required to respond to an information collection, unless it is approved by the Office of Management and Budget (OMB) under the PRA and displays a currently valid OMB Control Number. In addition, notwithstanding any other provisions of law, no person shall generally be subject to penalty for failing to comply with a collection of information that does not display a valid Control Number. See 5 CFR 1320.5(a) and 1320.6.

When ANA administers the survey in the future, ANA intends to make results available to the public. Collected data can serve as a guide for future policies to better support Native language reclamation efforts. The proposed survey will be completed by representatives within Tribes and communities to report on information at the community level. Participation in the survey will be voluntary, and Tribes and Native language communities will not be required to share culturally sensitive information.

B. Summary of Reviews and Consultations to Date

To date, ANA has engaged in multiple listening sessions with representatives from Hawaii and the Pacific territories, Alaska, National Indian Education Association's members, National Congress of American Indians Language Task Force, American Indian Higher Education Consortium, and the Administration for Children and Families Tribal Advisory Council. ANA also sought input through formal Tribal Consultation. ANA also convened a Community Working Group to provide advice on the survey development.

Key themes are included below.

Data should be useful to and actionable for the communities from which they were gathered:

• Findings should be made publicly available.

• Many respondents expressed hope that the data can contribute to policy change around language funding, especially around unmet needs, which were a significant concern across all listening sessions.

• Language vitality and program sustainability can fluctuate with access or limitations to Federal funding; as such, data should be gathered that assess community-level needs to support better alignment between community priorities and Federal funding.

Language usage, preservation, and maintenance efforts are highly specific to each community:

• Many communities speak or have spoken multiple languages and/or dialects.

• Some communities have different definitions or perceptions of survey topics and may have gathered information that does not align with the survey questions.

Assessing intergenerational transmission of language and areas where language is used or spoken is critical:

• The absolute number of speakers matters, but endangered languages can go dormant within a single lifespan. Intergenerational language transmission holds cultural significance and is necessary for ongoing vitality.

• Language is a repository for cultural heritage; understanding where language is used matters.

Survey administration plans should consider accuracy of coverage and potential burden:

• Plans should be cognizant and respectful of existing administrative burdens for respondents.

• Data gathered may include estimates, and there may be overlap across organizations that may support multiple communities.

• Some communities may want to respond but be unable to do so for a variety of factors (for example, time allotted for response, capacity to gather data).

C. Guiding Questions for Comment

ANA requests comments on the draft survey found at https://www.acf.hhs.gov/ana/durbin-feeling and suggests the following guiding questions for consideration. For the list of draft questions and more information on the Durbin Feeling Native American Languages Act, please visit this site: https://www.acf.hhs.gov/ana/durbin-feeling.

1. Do the proposed survey questions address the six survey topics in a culturally relevant way? What other questions would better address the six topic areas?

2. Should we exclude any of the proposed questions from a survey that will be shared publicly? If so, please explain which and why.

3. Do the proposed terms and definitions align with your community's use of these terms and definitions?

4. What is an appropriate length of time to request for completing the survey? Consider how long it might take to (1) review instructions, (2) gather the data needed, and (3) answer the proposed questions.

5. How would you want to respond to a survey for your community? For example, would you want a web-based survey, a telephone interview, an in-person interview, a hard-copy paper survey, or a mix of these methods?

ANA and its partners will continue to deliberate, assess evidence, and take into consideration comments received from the public before making final recommendations for the survey.

Patrice H. Kunesh,
Commissioner, Administration for Native Americans.

[FR Doc. 2024-04935 Filed 3-7-24; 8:45 am]

BILLING CODE 4184-34-P